DEPARTMENT OF JUSTICE

Antitrust Division

Notice Pursuant to the National Cooperative Research and Production Act of 1993—Advanced Technology Proposal No. 00-00-4061

Notice is hereby given that, on July 18, 2000, pursuant to section 6(a) of the National Cooperative Research and Production Act of 1993, 15 U.S.C. 4301 et seq. (“the Act”), the parties to Advanced Technology Proposal No. 00-00-4061 have filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Caterpillar Inc., Peoria, IL; United Technologies Corporation, acting through its unincorporated operating unit, United Technologies Research Center, East Hartford, CT; and J.A. Woollam Co., Inc., Lincoln, NE. The nature and objectives of the venture are to develop the technology tools needed to implement nanostructured coatings for competitive advantage.

The activities of this joint venture will be partially funded by an award from the Advanced Technology Program, National Institute of Standards and Technology, Department of Commerce.

Constance K. Robinson,
Director of Operations Antitrust Division.

[FR Doc. 01-931 Filed 1-10-01; 8:45 am]

BILLING CODE 4410-11-M